DEPARTMENT OF COMMERCE

International Trade Administration

[A-821-815]

Postponement of the Final Determination of the Less-Than-Fair-Value Investigation of Certain Cold-Rolled Carbon Steel Flat Products from the Russian Federation

AGENCY: Import Administration, International Trade Administration, Department of Commerce.

ACTION: Notice of postponement of the final determination of the less-than-fair-value investigation of certain cold-rolled carbon steel flat products from the Russian Federation.

SUMMARY: The Department of Commerce is postponing the final determination of the less-than-fair-value investigation of certain cold-rolled carbon steel flat products from the Russian Federation. The Department will make its final determination not later than September 23, 2002.

EFFECTIVE DATE: June 19, 2002.

FOR FURTHER INFORMATION CONTACT: Juanita H. Chen at 202-482-0409 or James C. Doyle at 202-482-0159, Import Administration, International Trade Administration, U.S. Department of Commerce, 1401 Constitution Avenue, N.W., Washington, DC 20230.

SUPPLEMENTARY INFORMATION:

The Applicable Statute

Unless otherwise indicated, all citations to the Tariff Act of 1930, as amended (“Act”), are references to the provisions effective January 1, 1995, the effective date of the amendments made to the Act by the Uruguay Round Agreements Act. In addition, unless otherwise indicated, all citations to the Department's regulations are to the regulations codified at 19 C.F.R. Part 351 (2000).

Background

On May 9, 2002, the Department of Commerce (“Department”) published the notice of preliminary determination of sales at less than fair value for certain cold-rolled carbon steel flat products from the Russian Federation. See Notice of Preliminary Determination of Sales at Less Than Fair Value: Certain Cold-Rolled Carbon Steel Flat Products From the Russian Federation, 67 FR 31241 (May 9, 2002) (“Preliminary Determination”). The final determination of this investigation is currently due no later than July 23, 2002. Pursuant to section 735(a)(2) of the Act, on May 30, 2002, the Ministry of Economic Development and Trade of the Russian Federation (“MEDT”) requested that the Department postpone its final determination in the investigation until 135 days after the date of the publication of the preliminary determination in the Federal Register. In addition, on June 3, 2002, MEDT requested that the Department extend the application of the provisional measures prescribed under 19 C.F.R. 351.210(e)(2) to not more than six months.

Postponement of Final Determination and Extension of Provisional Measures

In accordance with 19 C.F.R. 351.210(b), because (1) our preliminary determination is affirmative, (2) the requesting exporter accounts for a significant proportion of exports of the subject merchandise, and (3) no compelling reasons for denial exist, we are granting MEDT's request and are fully extending the time for the final determination, until no later than September 23, 2002. Suspension of liquidation will be extended accordingly.

Dated: June 12, 2002
Richard W. Moreland,
Acting Assistant Secretary for Import Administration.

[FR Doc. 02-15481 Filed 6-18-02; 8:45 am]

BILLING CODE 3510-DS-S